DEPARTMENT OF THE TREASURY

Submission for OMB Review; Comment Request

November 23, 2016.

The Department of the Treasury will submit the following information collection requests to the Office of Management and Budget (OMB) for review and clearance in accordance with the Paperwork Reduction Act of 1995, Public Law 104-13, on or after the date of publication of this notice.

DATES: Comments should be received on or before December 29, 2016 to be assured of consideration.

ADDRESSES: Send comments regarding the burden estimates, or any other aspect of the information collections, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8142, Washington, DC 20220, or email at PRA@treasury.gov.

FOR FURTHER INFORMATION CONTACT: Copies of the submissions may be obtained by emailing PRA@treasury.gov, calling (202) 622-0934, or viewing the entire information collection request at www.reginfo.gov.

Internal Revenue Service (IRS)

OMB Control Number: 1545-0004.

Type of Review: Extension without change of a currently approved collection.

Title: Determination of Worker Status for Purposes of Federal Employment Taxes and Income Tax Withholding.

Form: Form SS-8, SS-8PR.

Abstract: Form SS-8 is used by employers and workers to furnish information to IRS in order to obtain a determination as to whether a worker is an employee for purposes of Federal employment taxes and income tax withholding. IRS uses this information to make the determination.

Form SS-8PR is the Spanish version for use in Puerto Rico of form SS-8 Determination of Worker Status for Purposes of Federal Employment Taxes and Income Tax Withholding. IRS uses this information to make the determination.

Affected Public: Businesses or other for-profits.

Estimated Total Annual Burden Hours: 148,621.

OMB Control Number: 1545-1191.

Type of Review: Extension without change of a currently approved collection.

Title: Information with Respect to Certain Foreign-Owned Corporations—IRC Section 6038A.

Abstract: The regulations require record maintenance, annual information filing, and the authorization of the U.S. corporation to act as an agent for IRS summons purposes. These requirements allow IRS International examiners to better audit the returns of U.S. corporations engaged in crossborder transactions with a related party.

Affected Public: Businesses or other for-profits.

Estimated Total Annual Burden Hours: 640,000.

Bob Faber,
Acting Treasury PRA Clearance Officer.

[FR Doc. 2016-28748 Filed 11-28-16; 8:45 am]

BILLING CODE 4830-01-P